ENVIRONMENTAL PROTECTION AGENCY

40 CFR Part 52

[EPA-R07-OAR-2020-0620; FRL-10017-81-Region 7]

Air Plan Approval; Missouri; Removal of Control of Emissions From Solvent Cleanup Operations

Correction

In proposed rule document 2020-28121 appearing on pages 82995 through 82998 in the issue of Monday, December 21, 2020, make the following correction:

(1) On page 82995, in the second column, in the DATES section, change “January 20, 2021” to read “January 21, 2021.”

[FR Doc. C1-2020-28121 Filed 1-12-21; 8:45 am]

BILLING CODE 1301-00-D